OFFICE OF SCIENCE AND TECHNOLOGY POLICY

National Nanotechnology Coordination Office; Nanoscale Science, Engineering, and Technology Subcommittee; National Science and Technology Council; Committee on Technology

AGENCY: Office of Science and Technology Policy.

ACTION: Notice of public meeting.

SUMMARY: The National Nanotechnology Coordination Office (NNCO), on behalf of the Nanoscale Science, Engineering, and Technology (NSET) Subcommittee of the Committee on Technology, National Science and Technology Council (NSTC), will hold a workshop entitled “Sensor Fabrication, Integration, and Commercialization” on September 11 and 12, 2014. The workshop will bring together experts from a wide-range of application areas, stages of product development, and manufacturing. The aim of the workshop is to identify key challenges faced by sensor developers and determine the critical needs of the community, especially with respect to necessary standards, testing facilities, and advances in manufacturing. The workshop will include case study examples of commercialization success, a small business panel focused on challenges faced in the commercialization of sensors, and breakout sessions to explicitly address the RFI questions regarding standards, testing, manufacturing, and commercialization.

DATES: The Workshop will be held Thursday, September 11, 2014 from 8 a.m. until 7 p.m., and Friday, September 12, 2014 from 8:30 a.m. until 5 p.m.

ADDRESSES: The workshop will be held at the National Science Foundation (NSF) Stafford I building, Room 375, 4201 Wilson Blvd., Arlington, VA 22230.

FOR FURTHER INFORMATION CONTACT: Dr. Tarek Fadel, 703-292-7926, tfadel@nnco.nano.gov, NNCO. Additional information is posted at http://nano.gov/node/1150.

SUPPLEMENTARY INFORMATION: Registration: Registration opens on August 11, 2014 at http://nano.gov/node/1150. Due to space limitations, pre-registration for the workshop is required. Written notices of participation should be sent to jbeamon@nnco.nano.gov or to Jewel Beamon, 4201 Wilson Blvd., Stafford II, Suite 405, Arlington, VA 22230. Please provide your full name, title, affiliation and email or mailing address when registering. Registration is on a first-come, first-served basis until capacity is reached. Written or electronic comments should be submitted by email to jbeamon@nnco.nano.gov until close of business August 21, 2014.

Meeting Accommodations: Individuals requiring special accommodation to access this webinar should contact Jewel Beamon at 703-292-7741 at least ten business days prior to the meeting so that appropriate arrangements can be made.

Ted Wackler,
Deputy Chief of Staff and Assistant Director.

[FR Doc. 2014-18715 Filed 8-4-14; 4:15 pm]

BILLING CODE 3270-F4-P